DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
Massachusetts
Duxbury (Town), Plymouth County (FEMA Docket No. D-7604)
Massachusetts Bay:
Approximately 1,000 feet southwest of the intersection of Plymouth Avenue and Bay Avenue | *11
Approximately 250 feet east of the intersection of Plymouth Avenue and Bay Avenue | *21
Duxbury Bay/Bluefish River:
Approximately 650 feet southwest of the intersection of River Lane and Washington Street | *10
Massachusetts Bay/Kingston Bay:
Approximately 500 feet southeast of the intersection of Loring Street and Bay Road | *11
Approximately 850 feet south of the intersection of Bay Road and Landing Road | *15
Duxbury Bay:
Approximately 500 feet south of the intersection of Powder Point Avenue and King Caesar Road (intersection closest to Powder Point Bridge) | *17
Massachusetts Bay/Duck Hill River/The Marsh:
Approximately 1,000 feet north of the intersection of St. George Street and Strawberry Lane | *11
Maps available for inspection at the Duxbury Town Hall, 878 Tremont Street, Duxbury, Massachusetts.
Pennsylvania
Manheim (Township), Lancaster County (FEMA Docket No. D-7606)
Landis Run:
Approximately 1,000 feet downstream of New Holland Pike | •279
Approximately 150 feet downstream of Butter Road | •306
Maps available for inspection at the Manheim Township Office, 1840 Municipal Drive, Lancaster, Pennsylvania.
Vermont
Hinesburg (Town), Chittenden County (FEMA Docket No. D-7610)
LaPlatte River:
At the downstream corporate limit | •319
Approximately 100 feet upstream of Silver Street | •328
Patrick Brook:
At the confluence with LaPlatte River | •325
Approximately 50 feet upstream of the divergence of The Canal | •362
The Canal:
At the dam downstream of State Route 116 | •346
At the divergence from Patrick Brook | •361
Unnamed Diversion Channel:
At the confluence with Patrick Brook | •335
At the divergence from The Canal | •347
Maps available for inspection at the Hinesburg Town Hall, 10632 Route 116, Hinesburg, Vermont.
Vermont
Stowe (Town), Lamoille County (FEMA Docket No. D-7610)
East Branch Little River:
At confluence with Little River | •700
At the confluence of Moss Glen and Sterling Brooks | •723
Little River:
Approximately 1,240 feet downstream of Adams Dam | •620
At the confluence of East and West Branches of Little River | •700
Moss Glen Brook:
At the confluence with East Branch Little River | •723
Approximately 60 feet upstream of Pucker Street (State Route 100) | •742
Sterling Brook:
At the confluence with East Branch Little River | •723
Approximately 115 feet upstream of Moulton Lane | •752
West Branch Little River:
At the confluence with Little River | •700
Approximately 75 feet upstream of Mountain Road (State Route 108) | •956 | Maps available for inspection at the Stowe Town Hall, 67 Main Street, Stowe, Vermont.
Vermont
West Rutland (Town), Rutland County (FEMA Docket No. D-7610)
Clark Hill Brook:
At the confluence with Clarendon River | •497
Approximately 0.54 mile upstream of Casella Lane | •691
Urban Lateral:
At the confluence with Castleton River | •484
Approximately 0.24 mile upstream of Millyard Culvert | •492
Maps available for inspection at the West Rutland Town Hall, 35 Marble Street, West Rutland, Vermont.

(Catalog of Federal Domestic Assistance No. 83.100, “Flood Insurance.”)

Dated: May 18, 2005.
David I. Maurstad,
Acting Director, Mitigation Division, Emergency Preparedness and Response Directorate.

[FR Doc. 05-10614 Filed 5-26-05; 8:45 am]

BILLING CODE 9110-12-P